DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Farmrail System, Incorporated

[Docket Number FRA-2001-9998]

The Farmrail System owns and operates three passenger coaches which were built in 1954-56. These coaches are not used in regular service, but only on a limited seasonal basis primarily in conjunction with the Oklahoma Tourism and Recreation Department's resort and conference center located at Quartz Mountain State Park. The cars operate on trackage owned by the Oklahoma Department of Transportation for which Farmrail acts as lessee-operator. The excursion trains operate from a station near the entrance to Quartz Mountain State Park and run northward around Lake Lugert through a sparsely populated area to Lone Wolf, Oklahoma, and back. Farmrail requests relief from the requirements of Title 49 Code of Federal Regulations (CFR) 223.15 Requirements for existing passenger cars due to the infrequent use of the cars, the planned usage for excursion service, and the cost of installing compliant glazing. The cars are former VIA Rail Canada equipment, and have a double-pane combination of 1/4-inch thick safety glass inside and plate glass outside. This glazing system remains the standard in Canada for passenger equipment, and the petitioner believes that the operation of these cars, as equipped, would not pose a safety hazard to passengers or employees.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2001-9998) and must be submitted to the Docket Clerk, DOT Central Docket Management Facility, Room P1-401 (Plaza Level), 400 Seventh Street, SW., Washington, DC 20590. Communications received within 30 days of the date of this notice will be considered by FRA before final action is taken. Comments received after that date will be considered as far as practicable. All written communications concerning these proceedings are available for examination during regular business hours (9:00 a.m.-5:00 p.m.) at above facility. All documents in the public docket are also available for inspection and copying on the Internet at the docket facility's Web site at http://dms.dot.gov.

Issued in Washington, DC, on January 2, 2002.
Grady C. Cothen, Jr.,
Deputy Associate Administrator for Safety Standards and Program Development.

[FR Doc. 02-312 Filed 1-4-02; 8:45 am]

BILLING CODE 4910-06-P